DEPARTMENT OF DEFENSE

Office of the Secretary

Final Environmental Impact Statement for the East Campus Integration Program, Fort Meade, Maryland

AGENCY: Department of Defense.

ACTION: Notice of availability.

SUMMARY: The Department of Defense (DoD) announces the availability of the Final Environmental Impact Statement (EIS) as part of the environmental planning process for the East Campus Integration Program at Fort George G. Meade, Maryland (hereafter referred to as Fort Meade). The DoD proposes to continue to develop operational complex and headquarters space at the National Security Agency's (NSA) East Campus on Fort Meade for use by NSA and the Intelligence Community.

DATES: The Final EIS is available for a 30-day period following publication of the Notice of Availability.

ADDRESSES: Copies of the Final EIS are available at the Medal of Honor Memorial Library, 4418 Llewellyn Avenue, Fort Meade, MD 20755; Glen Burnie Regional Library, 1010 Eastway, Glen Burnie, MD 21060; Odenton Regional Library, 1325 Annapolis Road, Odenton, MD 21113; and Severn Community Library, 2624 Annapolis Road, Severn, Maryland 21144.

FOR FURTHER INFORMATION CONTACT: To request copies of the Final EIS, please send an email to ECIPEIS@hdrinc.com. For further information, please call 301-688-2970.

SUPPLEMENTARY INFORMATION: The purpose of the Proposed Action is to provide facilities that are fully supportive of the Intelligence Community's function and to continue to integrate the East Campus with the NSA Main Campus. The need for the action is to meet mission requirements, both internally at the NSA and within the Intelligence Community. The EIS considered four options for emergency power generation; two options for building heating systems; four options for locations of parking facilities; acquisition of additional space at two existing, offsite leased locations; and the No Action Alternative.

Dated: February 24, 2017.
Aaron Siegel,
Alternate OSD Federal Register Liaison Officer, Department of Defense.

[FR Doc. 2017-03975 Filed 2-28-17; 8:45 am]

BILLING CODE 5001-06-P